DEPARTMENT OF THE INTERIOR

Minerals Management Service

Request for Nominations for Public Members to the Royalty Policy Committee, Minerals Management Advisory Board

AGENCY: Minerals Management Service (MMS), Interior.

ACTION: Request for nominations.

SUMMARY: The Secretary of the Department of the Interior established a Royalty Policy Committee (RPC) on the Minerals Management Advisory Board to provide advice on our management of Federal and Indian minerals leases, revenues, and other minerals related policies. The RPC membership includes representatives from States, Indian Tribes and allottee organizations, minerals industry associations, the general public, and other Federal departments. Members serve without pay but will be reimbursed for travel expenses incurred when attending official RPC meetings. Reimbursements will be calculated in accordance with the Federal travel regulations as implemented by the Department. Since the two public members' terms on the RPC will expire during the first half of next year, the Director, Minerals Management Service, is requesting nominations. These nominations may originate from State and local governments, organizations or individuals, and they may include self-nominations. Nominees should have the expertise in royalty management issues necessary to represent the public interest. The nomination package must include an updated copy of the nominee's biography that includes their mailing and e-mail addresses, and a letter from the nominee accepting the nomination. Since we are committed to the Department's diversity policy, nominators are requested to consider diversity when making nominations.

DATES: Submit nominations on or before October 30, 2000.

ADDRESSES: Submit nominations to Gary L. Fields, Chief, Program Services Office, Royalty Management Program, Minerals Management Service, P.O. Box 25165, MS 3006, Denver, CO 80225-0165.

FOR FURTHER INFORMATION CONTACT: Gary L. Fields, Chief, Program Services Office, Royalty Management Program, Minerals Management Service, PO Box 25165, MS 3006, Denver, CO 80225-0165, telephone number (303) 231-3102, fax number (303) 231-3781, e-mail: gary.fields@mms.gov.

SUPPLEMENTARY INFORMATION: The locations, dates of RPC meetings, and other information will be published in the Federal Register and posted on the Internet at http://www.rmp.mms.gov/Laws_R_D/RoyPC/RoyPC.htm. Meetings are open to the public without advanced registration, on a space available basis. The public may make statements during the meetings, to the extent time permits, and file written statements with the RPC for its consideration; copies of these written statements should be submitted to Gary Fields.

These meetings are conducted under the authority of the Federal Advisory Committee Act (P.L. 92-463, 5 U.S.C., Appendix 1) and the Office of Management and Budget (Circular No. A-63, revised).

Dated: September 22, 2000.
Lucy Querques Denett,
Associate Director for Royalty Management.

[FR Doc. 00-24889 Filed 9-27-00; 8:45 am]

BILLING CODE 4310-MR-U